ENVIRONMENTAL PROTECTION AGENCY

[FRL-8718-2]

Meeting of the Local Government Advisory Committee

AGENCY: Environmental Protection Agency.

ACTION: Notice.

SUMMARY: The Small Communities Advisory Subcommittee and the Local Government Advisory Committee (LGAC) will meet by teleconference on Thursday October 9th at 1:30 p.m. to 2:30 p.m. (EDT). Topics to be discussed are recommendations to the Administrator regarding environmental issues affecting small communities, Small Communities Report, and recommendations regarding green buildings.

This is an open meeting and all interested persons are invited to attend. The Committee will hear comments from the public between 2 p.m. and 2:15 p.m. (EDT) on Thursday October 9, 2008. Each individual or organization wishing to address the Committee will be allowed a maximum of five minutes. Also, written comments may be submitted electronically to araujo.javier@epa.gov or eargle.frances@epa.gov. Please contact the Designated Federal Officer (DFO) at the number listed below to schedule agenda time. Time will be allotted on a first come, first serve basis, and the total period for comments may be extended, if the number of requests for appearances require it.

FOR FURTHER INFORMATION CONTACT: Frances Eargle, DFO for the Local Government Advisory Committee (LGAC), at (202) 564-3115 or e-mail at eargle.frances@epa.gov. For those interested in participating in the Small Community Advisory Subcommittee meeting, contact Javier Araujo at (202) 564-2642 or e-mail at araujo.javier@epa.gov.

Information on Services for Those With Disabilities: For information on access or services for individuals with disabilities, please contact Frances Eargle at (202) 564-3115 or eargle.frances@epa.gov. To request accommodations of a disability, please request it 10 days prior to the meeting, to give EPA as much time as possible to process your request.

Dated: September 10, 2008.
M. Frances Eargle,
Designated Federal Officer, Local Government Advisory Committee.

[FR Doc. E8-22240 Filed 9-22-08; 8:45 am]

BILLING CODE 6560-50-P